DEPARTMENT OF COMMERCE

Census Bureau

Agency Information Collection Activities; Submission to the Office of Management and Budget (OMB) for Review and Approval; Comment Request; The American Community Survey (ACS) and Puerto Rico Community Survey (PRCS)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 5, 2024, during a 60-day comment period. This notice allows for an additional 30 days for public comments.

Agency: U.S. Census Bureau.

Title: The American Community Survey and the Puerto Rico Community Survey.

OMB Control Number: 0607-0810.

Form Number(s): ACS-1, ACS-1(SP), ACS-1(PR), ACS-1(PR)SP, ACS-1(GQ), ACS-1(PR)(GQ), ACS Housing Unit internet electronic instrument (no form number), ACS nonresponse follow up CAPI (Computer Assisted Personal Interview) electronic instrument (no form number), ACS Failed Edit Follow up CATI (Computer Assisted Telephone Interview) electronic instrument (no form number), ACS Telephone Questionnaire Assistance CATI electronic instrument (no form number), ACS Group Quarters internet listing instrument (no form number), ACS Group Quarters Facility Questionnaire CAPI GQFQ electronic instrument (no form number), ACS Group Quarters internet electronic instrument (no form number), ACS Group Quarters Resident CAPI electronic instrument (no form number). ACS Reinterview CATI/CAPI HU RI electronic instrument (no form number), ACS Reinterview CATI/CAPI GQ RI electronic instrument (no form number).

Type of Request: Regular submission. Request for an extension.

Number of Respondents: 3,576,000 for household respondents; 20,100 for facility contacts in group quarters; 153,600 people in group quarters; 22,875 households for reinterview; and 1,422 group quarters facility contacts for reinterview. The total estimated number of respondents is 3,773,997.

Average Hours per Response: 40 minutes for the average household questionnaire; 15 minutes for a group quarters facility contact questionnaire; 25 minutes for a group quarters person questionnaire; 10 minutes for a household reinterview; 10 minutes for a group quarters facility contact reinterview.

Burden Hours: 2,384,000 for household respondents; 5,025 for contacts in group quarters; 64,000 for group quarters residents; 3,813 households for reinterview; and 237 group quarters contacts for reinterview. The estimate is an annual average of 2,457,075 burden hours.

Needs and Uses: The U.S. Census Bureau requests authorization from the OMB for revisions to the ACS. The ACS is one of the Department of Commerce's most valuable data products, used extensively by businesses, nongovernmental organizations (NGOs), local governments, and many federal agencies. In conducting this survey, the Census Bureau's top priority is respecting the time and privacy of the people providing information while preserving its value to the public.

ACS Background

The Census Bureau developed the ACS to collect and update demographic, social, economic, and housing data every year that are essentially the same as the “long-form” data that the Census Bureau formerly collected once a decade as part of the census. The ACS is an ongoing monthly survey that collects detailed data from about 3.54 million addresses in the United States and about 36,000 addresses in Puerto Rico each year. The ACS also collects detailed socioeconomic data from about 153,000 residents living in group quarters facilities in the United States and about 600 in Puerto Rico. The ACS is the only source of comparable data about social, economic, housing, and demographic characteristics for small areas and small subpopulations across the nation and in Puerto Rico. Every community in the nation continues to receive a detailed, statistical portrait of its social, economic, housing, and demographic characteristics each year through one-year and five-year ACS products.

ACS Contact Strategies for Housing Units

To collect ACS data, the Census Bureau uses a well-researched mail contact strategy to encourage self-response to the survey. For addresses that were mailed survey materials but did not respond by mail, internet, or by calling our telephone questionnaire assistance line, the Census Bureau selects a subsample of all households and assigns them to the nonresponse follow-up data collection operation. Unmailable household addresses are sampled and also included in the nonresponse follow-up data collection operation.

To encourage self-response in the ACS, the Census Bureau sends up to five mailings to housing units selected to be in the sample. The first mailing, sent to all mailable addresses in the sample, includes an invitation to participate in the ACS online and states that a paper questionnaire will be sent in a few weeks to those unable to respond online. The second mailing is a letter that reminds respondents to complete the survey online, thanks them if they have already done so, and informs them that a paper questionnaire will be sent at a later date if the Census Bureau does not receive their response. In a third mailing, the paper questionnaire package is sent only to those sample addresses that have not completed the online questionnaire within two and a half weeks. The fourth mailing is a postcard that reminds respondents to respond and informs them that an interviewer may contact them if they do not complete the survey. A fifth mailing is a letter sent to respondents who have not completed the survey within five weeks. This letter provides a due date and reminds the respondents to complete their survey to be removed from future contact. The Census Bureau will ask those who fill out the survey online to provide an email address, which will be used to send an email reminder to respondents who started but did not complete the online form. The reminder asks them to log back in to finish responding to the survey. If the Census Bureau does not receive a response or if the household refuses to participate, the address may be selected for nonresponse follow-up data collection where the interview can be collected by telephone or personal visit using computer-assisted interviewing.

Some addresses are deemed unmailable because the address is incomplete or directs mail only to a post office box. The Census Bureau currently collects data for these housing units in the nonresponse follow-up data collection using online, computer-assisted personal interviewing, and computer-assisted telephone interviewing. A small sample of respondents from the nonresponse follow-up data collection interview are recontacted for quality assurance purposes.

PRCS Contact Strategies for Housing Units

For sample housing units in the Puerto Rico Community Survey, a different mail strategy is employed. The Census Bureau sends up to five mailings to a Puerto Rico address selected to be in the sample. The first mailing includes a prenotice letter. The second and fourth mailings include the paper questionnaire. The third and fifth mailings serve as a reminder to respond to the survey. The mail strategy has no references to an internet response option. If the Census Bureau does not receive a response or if the household refuses to participate, the address may be selected for nonresponse follow-up data collection where the interview can be collected by telephone or personal visit using computer-assisted interviewing technology.

The Puerto Rico addresses deemed unmailable because the address is incomplete or directs mail only to a post office box are collected by telephone or person visit using computer-assisted interviewing technology during nonresponse follow-up data collection. A small sample of respondents from the nonresponse follow-up data collection interview are recontacted for quality assurance purposes.

ACS and PRCS Contact Strategy for Group Quarters

The Census Bureau collects data for group quarters through personal interview, online, or by paper. The Census Bureau can obtain the facility information by allowing the group quarters contact to upload the roster of residents online or by conducting a personal visit interview with a group quarters contact. Once the interviewer obtains the roster of residents, they randomly select residents for person-level interviews. During the person-level phase, a computer-assisted personal interviewing instrument is used to collect detailed information for each sampled resident. Interviewers also have the option to distribute a bilingual (English/Spanish) questionnaire to residents for self-response if they are unable to complete a computer-assisted personal interviewing interview. Residents in some group quarters types have the option to self-respond to the survey online. A small sample of respondents are recontacted for quality assurance purposes.

Statistics produced from the ACS program may include a combination of data collected on the survey from respondents as well as administrative data from other sources.

Affected Public: Individuals or households.

Frequency: Monthly.

Respondent's Obligation: Mandatory.

Legal Authority: Title 13 U.S.C. 141, 193, 221, and 223.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0810.

Sheleen Dumas,
Departmental PRA Compliance Officer, Office of the Under Secretary for Economic Affairs, Commerce Department.

[FR Doc. 2025-08019 Filed 5-7-25; 8:45 am]

BILLING CODE 3510-07-P